DEPARTMENT OF TRANSPORTATION

Federal Aviation Administration

14 CFR Part 39

[Docket No. FAA-2008-0040; Directorate Identifier 2007-SW-13-AD; Amendment 39-15598; AD 2008-14-03]

RIN 2120-AA64

Airworthiness Directives; Bell Helicopter Textron Canada Model 206A, 206B, 206L, 206L-1, 206L-3, and 206L-4 Helicopters

AGENCY: Federal Aviation Administration (FAA), Department of Transportation (DOT).

ACTION: Final rule.

SUMMARY: We are adopting a new airworthiness directive (AD) for the specified Bell Helicopter Textron Canada (BHTC) Model 206A, 206B, 206L, 206L-1, 206L-3, and 206L-4 helicopters. This AD results from mandatory continuing airworthiness information (MCAI) originated by an aviation authority to identify and correct an unsafe condition on an aviation product. The aviation authority of Canada, with which we have a bilateral agreement, states in the MCAI: “It has been determined that some helicopters have been fitted with a CRES steel fitting, part number (P/N) 407-030-750-103, and the installation of the tailboom attachment bolt does not meet the design criteria.” We are issuing this AD to require actions that are intended to address the unsafe condition that results from an improper installation of the tailboom attachment bolt in the upper left-hand tailboom attachment CRES steel fitting.

DATES: This AD becomes effective on August 14, 2008.

The Director of the Federal Register approved the incorporation by reference of certain publications listed in this AD as of August 14, 2008.

ADDRESSES: You may examine the AD docket on the Internet at http://regulations.gov or in person at the Docket Operations office, U.S. Department of Transportation, M-30, West Building Ground Floor, Room W12-140, 1200 New Jersey Avenue, SE., Washington, DC between 9 a.m. and 5 p.m. Monday through Friday, except Federal holidays.

You may get the service information identified in this AD from BHTC, 12,800 Rue de l'Avenir, Mirabel, Quebec J7J1R4, telephone (450) 437-2862 or (800) 363-8023, fax (450) 433-0272.

Examining the AD Docket: The AD docket contains the Notice of proposed rulemaking (NPRM), the economic evaluation, any comments received, and other information. The street address and operating hours for the Docket Operations office (telephone (800) 647-5227) are in the ADDRESSES section of this AD. Comments will be available in the AD docket shortly after they are received.

FOR FURTHER INFORMATION CONTACT: Sharon Miles, Aviation Safety Engineer, FAA, Rotorcraft Directorate, Regulations and Policy Group, Fort Worth, Texas 76193-0111, telephone (817) 222-5122, fax (817) 222-5961.

SUPPLEMENTARY INFORMATION:

Discussion

We issued an NPRM to amend 14 CFR part 39 to include an AD that would apply to the specified products. That NPRM was published in the Federal Register on January 23, 2008 (73 FR 3887). That NPRM proposed to correct an unsafe condition for the specified products which results from an improper installation of the tailboom attachment bolt in the upper left hand tailboom attachment CRES steel fitting. The MCAI states: “It has been determined that some helicopters have been fitted with a CRES steel fitting, part number (P/N) 407-030-750-103, and the installation of the tailboom attachment bolt does not meet the design criteria.”

Comments

By publishing the NPRM, we gave the public an opportunity to participate in developing this AD. However, we received no comment on the NPRM or on our determination of the cost to the public. Therefore, based on our review and evaluation of the available data, we have determined that air safety and the public interest require adopting the AD as proposed.

Relevant Service Information

BHTC has issued Alert Service Bulletin No. 206-06-110 and No. 206L-06-140, both dated September 7, 2006. The actions described in the MCAI are intended to correct the same unsafe condition as that identified in the service information.

Differences Between This AD and the MCAI AD

There are no differences between this AD and the MCAI AD.

Costs of Compliance

We estimate that this AD will affect about 2,206 helicopters (1,471 Model 206A and 206B helicopters and 735 Model 206L helicopters) of U.S. registry. We also estimate that it will take about .5 work-hour per helicopter to determine if a tailboom attachment bolt must be replaced and, if so, 1 additional work hour to replace the tailboom attachment bolt. The average labor rate is $80 per work-hour. Required parts will cost about $133 for Model 206L series helicopters, and $71 for Model 206A and 206B series helicopters. Based on these figures, we estimate the cost of this AD on U.S. operators to be $466,916, or $253 for each Model 206L series helicopter and $191 for each Model 206A and 206B series helicopter.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on product(s) identified in this rulemaking action.

Regulatory Findings

We determined that this AD will not have federalism implications under Executive Order 13132. This AD will not have a substantial direct effect on the States, on the relationship between the national government and the States, or on the distribution of power and responsibilities among the various levels of government.

Therefore, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-14-03 Bell Helicopter Textron Canada: Amendment 39-15598. Docket No. FAA-2008-0040; Directorate Identifier 2007-SW-13-AD.

Effective Date

(a) This airworthiness directive (AD) becomes effective on August 14, 2008.

Other Affected ADs

(b) None.

Applicability

(c) This AD applies to Model 206A, 206B, 206L, 206L-1, 206L-3, and 206L-4 helicopters, with an upper left-hand tailboom attachment CRES steel fitting, part number (P/N) 407-030-750-103, installed, certificated in any category.

Reason

(d) The mandatory continuing airworthiness information (MCAI) states:

“It has been determined that some helicopters have been fitted with a CRES steel fitting, part number (P/N) 407-030-750-103, and the installation of the tailboom attachment bolt does not meet the design criteria.”

We have determined that an improper installation of the tailboom attachment bolt in the upper left-hand tailboom attachment CRES steel fitting, P/N 407-030-750-103, creates an unsafe condition.

Actions and Compliance

(e) Within the next 50 hours time-in-service (TIS), unless already done, do the following:

(1) For those helicopters with an upper left-hand CRES tailboom attachment fitting, P/N 407-030-750-103, determine if the correct number and type of washers are installed, the tailboom attachment bolt is oriented in the correct direction, and the correct number of bolt threads are exposed in accordance with the NOTES on Figure 1 of the applicable Alert Service Bulletin (ASB) in the following Table I.

Table I
Model | ASB No. and date
206A, 206B | 206-06-110, dated September 7, 2006.
206L, L-1, L-3, L-4 | 206L-06-140, dated September 7, 2006.

(i) If the correct number and type of washers are installed, the tailboom attachment bolt is oriented in the correct direction, and the correct number of tailboom attachment bolt threads is exposed, do a torque inspection of the nut.

(A) If the torque is below the minimum required amount, replace the tailboom attachment bolt in accordance with the Accomplishment Instructions, Part II, step 1 of the applicable ASB listed in Table I of this AD.

(B) If the torque is above the maximum amount, adjust the torque to within the allowable range.

(ii) If an incorrect number or type of washer is installed or the tailboom attachment bolt is oriented in the wrong direction, reconfigure as necessary to meet the requirements of the NOTES on Figure 1 of the applicable ASB listed in Table I of this AD.

(iii) If there is less than 1 tailboom attachment bolt thread exposed, adjust the number of washers and retorque the nut so that between 1 and 3 tailboom attachment bolt threads are exposed at the proper nut torque.

(iv) If more than 3 tailboom attachment bolt threads are exposed, replace the attachment bolt in accordance with the Accomplishment Instructions, Part II, step 1 of the applicable ASB listed in Table 1 of this AD.

(2) If a tailboom attachment bolt must be replaced based on a requirement of this AD, at 100 hours TIS after the tailboom attachment bolt is replaced, do a torque inspection of the nut.

Differences Between This AD and the MCAI AD

(f) None.

Other Information

(g) Alternative Methods of Compliance (AMOCs): The Manager, Safety Management Group, Rotorcraft Directorate, FAA, has the authority to approve AMOCs for this AD, if requested using the procedures found in 14 CFR 39.19. Send information to FAA, Rotorcraft Directorate, Regulations and Policy Group, ATTN: Sharon Miles, Aerospace Engineer; Fort Worth, Texas 76193-0111, telephone (817) 222-5122, fax (817) 222-5961.

Related Information

(h) MCAI Transport Canada Airworthiness Directive CF-2007-01, dated January 19, 2007, contains related information.

Air Transport Association of America (ATA) Tracking Code

(i) Air Transport Association of America (ATA) Code 5340, Fuselage Main, Attach Fittings.

Material Incorporated by Reference

(j) You must use the specified portions of Bell Helicopter Textron Alert Service Bulletin No. 206-06-110 or No. 206L-06-140, both dated September 7, 2006, to do the actions required by this AD, unless the AD specifies otherwise.

(1) The Director of the Federal Register approved the incorporation by reference of this service information under 5 U.S.C. 552(a) and 1 CFR part 51.

(2) For service information identified in this AD, contact Bell Helicopter Textron Canada, 12,800 Rue de l'Avenir, Mirabel, Quebec J7J1R4, telephone (450) 437-2862 or (800) 363-8023, fax (450) 433-0272.

(3) You may review copies at the FAA, Office of the Regional Counsel, Southwest Region, 2601 Meacham Blvd., Room 663, Fort Worth, Texas or at the National Archives and Records Administration (NARA). For information on the availability of this material at NARA, call (202) 741-6030, or go to: http://www.archives.gov/federal-register/cfr/ibr-locations.html.

Issued in Fort Worth, Texas on June 12, 2008.
Lance T. Gant,
Acting Manager, Rotorcraft Directorate, Aircraft Certification Service.

[FR Doc. E8-14736 Filed 7-9-08; 8:45 am]

BILLING CODE 4910-13-P